DEPARTMENT OF DEFENSE

GENERAL SERVICES ADMINISTRATION

NATIONAL AERONAUTICS AND SPACE ADMINISTRATION

National Aeronautics and Space Administration

Federal Acquisition Regulation (FAR); Elimination of the Paper Copy of the Federal Acquisition Regulation (FAR); Looseleaf Edition

AGENCIES: Department of Defense (DOD), General Services Administration (GSA), and National Aeronautics and Space Administration (NASA).

ACTION: Notice.

SUMMARY: This notice is to advise users that beginning January 1, 2001, the General Services Administration (GSA) will no longer seek publication of a paper copy of the Federal Acquisition Regulation (FAR). Instead, GSA will actively publish the FAR only on the Internet. The URL for GSA's FAR website is: http://www.arnet.gov/far/

DATES: Elimination of the printing and distribution of the paper copy is effective January 1, 2001. Any current or renewed subscriptions will continue until this date.

FOR FURTHER INFORMATION CONTACT: General Services Administration, FAR Secretariat (MVR), 1800 F Street, NW. Room 4035, Attn: Ms. Laurie Duarte, Washington, DC 20405, (202) 501-4755.

SUPPLEMENTARY INFORMATION: In addition to providing free access to the FAR in HTML and PDF formats, the FAR website also provides electronic copies of Federal Acquisition Circulars (FACs). GSA will continue to provide these electronic looseleaf materials even after it stops seeking publication of the paper FAR. FAC contents on the website are identical to the contents of looseleaf materials that the Government Printing Office (GPO has provided by subscription.

Many Internet browsers display the materials GSA provides on its FAR website. If your does, you have choices. You can reference the FAR only on the Internet, or you can produce your own looseleaf FAR on paper by downloading and printing electronics FACs as GSA posts them to the FAR website. Otherwise, after January 1, 2001, you must seek some other source of the printed looseleaf.

Agency publications liaisons should provide this information to their FAR users. Consider whether to submit requisitions for FY 2001 subscribing anew to the FAR looseleaf. Along with your internal notifications, we will notify all on GPO's subscriber distribution list, agency procurement executives, and small agency councils of these changes.

The Superintendent of Documents at the Government Printing Office has indicated that it will continue publication of the Federal Acquisition Regulation in looseleaf format. Current subscribers will be provided with more specific information by the Superintendent of Documents as soon as it is available. To contact the Superintendent of Documents directly, you may call (202) 512-1706.

Dated: September 11, 2000.
Edward C. Loeb,
Director, Federal Acquisition Policy Division.

[FR Doc. 00-23847 Filed 9-15-00; 8:45 am]

BILLING CODE 6820-34-M